DEPARTMENT OF HOUSING AND URBAN DEVELOPMENT

[Docket No. FR-4579-FA-10]

Announcement of Funding Awards for Fiscal Year 2000 Research and Technology Unsolicited Proposals

AGENCY: Office of the Assistant Secretary for Policy Development and Research, HUD.

ACTION: Announcement of funding awards.

SUMMARY: In accordance with section 102(a)(4)(C) of the Department of Housing and Urban Development Reform Act of 1989, this document notifies the public of funding awards for Fiscal Year 2000 Research and Technology unsolicited proposals. The purpose of this document is to announce the names and addresses of the organizations that have been awarded cooperative agreements based on their submission of unsolicited proposals for research funding.

FOR FURTHER INFORMATION CONTACT: Patrick J. Tewey, Director, Budget, Contracts and Program Control Division, Office of Policy Development and Research, Room 8230, 451 7th Street, SW, Washington, DC 20410, telephone (202) 708-1796, extension 4098. To provide service for persons who are hearing-or-speech-impaired, this number may be reached via TTY by dialing the Federal Information Relay Service on 1-800-877-TTY, 1-800-877-8339, or 202-708-1455. (Telephone number, other than “800” TTY numbers are not toll free.)

SUPPLEMENTARY INFORMATION: The VA/HUD and Independent Agencies Appropriation Act of 2000 (Pub. L. 106-74) provided $45,000,000 in Research and Technology funds for contracts, grants and necessary expenses of programs and studies relating to housing and urban problems. HUD's Office of Policy Development and Research administers the Research and Technology funds. The majority of HUD's Research and Technology funding is awarded through competitive solicitations. The unsolicited proposal is another method used by HUD to fund research and development. An unsolicited proposal is submitted to support an idea, method or approach by individuals and organizations solely on the proposer's initiative. Funding of unsolicited proposals is considered a noncompetitive action. An unsolicited proposal demonstrates a unique and innovative concept or a unique capability of the submitter, offers a concept or service not otherwise available to the Government and does not resemble the substance of a pending competitive action. All unsolicited proposals and the resulting award of cooperative agreements include substantial cost sharing on the part of the submitter/awardee.

The Catalog of Federal Domestic Assistance for this program is 14.506

In accordance with section 102(a)(4)(C) of the Department of Housing and Urban Development Reform Act of 1989 (103 Stat. 1987, 42 U.S.C. 3545), the Department is publishing details concerning the recipients of funding awards, as follows:

List of FY2000 Awardees for Cooperative Agreements

Fulton Montgomery Community College, Anna D. Weitz, 2805 State Hwy. 67, Johnson, NY 12095-3790, Grant #H-21250CA, “Revitalization through Technology and Education-Based Institution”, Total Amount $100,000, Date Awarded 09/29/00.

University Consortium for Geographic Information Science, Susan Jampoler, Spinks Ferry Road, Leesburg, VA 20176-5631, Grant #H-21260CA, “Global Urban Quality”, Total Amount $240,000, Date Awarded 09/25/00.

Canisius College, Dr. Marion Meyers, 2001 Main St. Buffalo, NY 14208, Grant #H-21264CA, “State of the Cities Data Systems (SOCDS) Improvements-Government Finances Data”, Total Amount $134,065, Date Awarded 09/06/00.

National League of Cities Institute, Emily Stem, 1301 Pennsylvania Avenue, NW., Washington, DC 20004, Grant #H-21218CA, “Municipalities in Transition: A Panel Study for Economic Demographic and other Transition in Urban Areas”, Total Amount $98,657, Date Awarded 06/30/00.

Carnegie Mellon University, Susan Burkett, Office of Sponsored Research, 5000 Forbes Avenue Cyert Hall 102, Pittsburgh, PA 15213, Grant #H-21252CA, “Inter and Intra Metropolitan Migration”, Total Amount $130,418, Date Awarded 07/27/00.

Manpower Demonstration Research Corporation, Judith M. Gueron, 16 East 34 Street, New York, NY 10016-4326, Grant #H-21042CA, “Jobs Plus Community Revitalization Initiative for Public Housing Families”, Total Amount $1,700,000, Date Awarded 04/01/00.

American Planning Association, Frank S. So, 122 South Michigan Avenue, Suite 1600, Chicago, IL 60603-6107, Grant #H-21213CA, “Regional Approaches to Affordable Housing”, Total Amount $185,000, Date Awarded 04/03/00.

PolicyLink, Angela Glover Blackwell, 1010 Broadway, Oakland, CA, Grant #H-21271CA, “National Community Equity Mechanisms (CEM)”, Total Amount $60,000, Date Awarded 09/29/00.

Urban Land Institute, Rachelle Levitt, 1025 Thomas Jefferson Street, NW., Suite 500 West, Washington, DC 20007-5201, Grant #H-21270CA, “Implementing Solutions to Barriers to Urban Infill”, Total Amount $350,000, Date Awarded 09/27/00.

Lincoln Institute of Land Policy, Carolyn Ruhe, 113 Brattle Street, Cambridge, MA 02138, Grant #H-21210CA, “A National Symposium on Land Market Monitoring”, Total Amount $25,000, Date Awarded 04/06/00.

Partners For Livable Communities, Sue Coppa, 1429 21st Street, NW., Washington, DC 20036, Grant #H-21206CA, “Crossing the Line, Bridging the Divide”, Total Amount $25,000, Date Awarded 11/01/99.

Manufactured Housing Research Alliance, Emanuel Levy, 220 West 93rd Street, 11th Floor, New York, NY 10025, Grant #H-21212CA, “Manufactured Housing Cooperative Research”, Total Amount $500,000, Date Awarded 07/05/00.

The Urban Institute, Avis Vidal, 2100 M. Street, NW., Washington, DC 20037, Grant #H-21214CA, “The Role of Faith-Based Organization in Community Development”, Total Amount $16,022, Date Awarded 05/25/00.

National Hispanic Housing Coalition, Ruth Pagani, 318 Fourth Street, NE., Washington, DC 20002, Grant #H-21235CA, “A Study of the Determinants of Hispanic Participation in Federally-Funded Housing Programs”, Total Amount $125,000, Date Awarded 06/21/00.

Urban Land Institute, Rachelle Levitt, 1025 Thomas Jefferson Street, NW., Suite 500 West, Washington, DC 20007-2501, Grant #H-21203CA, “Overcoming Obstacles to Infill Housing Development”, Total Amount $45,000, Date Awarded 09/27/00.

National Trust For Historic Preservation, Richard Moe, 1785 Massachusetts Avenue, NW., Washington, DC 20036, Grant #H-21274CA, “Open Space Co-Oping” Total Amount $182,680, Date Awarded 9/29/00.

National Governors' Association Center for Best Practice, Raymond Scheppach, 444 North Capitol St. NW., Suite 267, Washington, DC 20001-1512, Grant #H-21290CA, “Where Do We Grow From Here?”, Total Amount $200,000, Date Awarded 09/29/00.

U.S.-Mexico Chamber of Commerce, Albert C. Zapanta, 1300 Pennsylvania Avenue, NW., Suite 270, Washington, DC 20004-3021, Grant #H-21251CA, “HUD and Business Roundtable on the Southwest Borders”, Total Amount $50,364, Date Awarded 08/17/00.

The Regents of the University of California, Bobbie M. Velasquez, University of California-San Diego, 9500 Gilman Drive, Mail Code 0934, La Jolla, CA 92093-0934, Grant #H-21240CA, “California-Baja California Border Conference”, Total Amount $33,391, Date Awarded 09/26/00.

Philadelphia Housing Authority, Carl Greene, 12 South 23rd Street, Philadelphia, PA 19103, Grant #H-21273CA, “Impact of Tenant Based Section 8 and Housing Voucher Concentrations on Real Estate Market Values in the City of Philadelphia”, Total Amount $50,000, Date Awarded 09/26/00.

Woodrow Wilson International Center for Scholars, Dean W. Anderson, One Woodrow Wilson Plaza, 1300 Pennsylvania Avenue, NW, Washington, DC 20004-3027, Grant #H-21239CA, “The International Research Monitor”, Total Amount $100,000, Date Awarded 09/27/00.

National Coalition for Asian Pacific American Community Development, Christopher Kui, Chairman, 108-110 Norfolk Street, New York, NY 10002, Grant #H-21234SG, “API Housing and Community Needs Study”, Total Amount $10,000, Date Awarded 5/22/00.

NAHB Research Center, Lisa K. Bowles, 400 Prince Georges Boulevard, Upper Marlboro, MD 20772, Grant #H-21205CA, “ToolBase Services: The Building Industry's Information Infrastructure”, Total Amount $749,966, Date Awarded 03/01/00.

NAHB Research Center, Lisa K. Bowles, 400 Prince George's Boulevard, Upper Marlboro, MD 207742-8731, Grant #H-21217CA, “Planning and Designing of Research Homes”, Total Amount $500,000, Date Awarded 06/27/00.

NAHB Research Center, Lisa K. Bowles, 400 Prince George's Boulevard, Upper Marlboro, MD 20772-8731, Grant #H-21216CA, “Innovative Structural Materials and Design Research for Residential Construction”, Total Amount $250,000, Date Awarded 06/20/00.

The American Society of Civil Engineers/Institute For Business & Home Safety, Thomas R. McLane, 1801 Alexander Bell Drive, Reston, VA 20192-4400, Grant #H-21211CA, “America's Ten Most Wanted”, Total Amount $24,500, Date Awarded 07/09/00.

North America Steel Framing Alliance, Donald R. Moody, 1726 M Street, NW., Suite 601, Washington, DC 20036-4523, Grant #H-21248CA, “Corrosion of Galvanized Fasteners Used in Cold-Formed Steel Framing”, Total Amount $37,400, Date Awarded 09/26/00.

North America Steel Framing Alliance, Donald R. Moody, 1726 M Street, NW., Suite 601, Washington, DC 20036-4523, Grant #H-21247CA, “Prescriptive Details for Hybrid Cold-Formed Steel/Wood Framing”, Total Amount $124,493, Date Awarded 09/26/00.

Dated: July 12, 2001.
Lawrence L. Thompson,
General Deputy Assistant Secretary for Policy Development and Research.

[FR Doc. 01-18076 Filed 7-18-01; 8:45 am]

BILLING CODE 4210-29-P